DEPARTMENT OF JUSTICE

Notice of Lodging of Consent Decree Under the Clean Water Act

Under 28 CFR 50.7 notice is hereby given that on August 11, 2003, a proposed consent decree in United States v. Groendyke Transport, Inc., Civil Action No. 01-M-1821 (CBS) was lodged with the United States District Court for the District of Colorado.

In this action the United States sought civil penalties for alleged violations of Section 311(b)(3) of the Federal Water Pollution Control Act, also known as the Clean Water Act (the Act), 33 U.S.C. 1321(b)(3), as amended by the Oil Pollution Act of 1990 (“OPA”), resulting from discharges of gasoline and asphalt into waters of the United States. The first spill occurred on December 5, 1998, and resulted in the discharge of approximately 8,700 gallons of gasoline into the South Platte River in Denver, Colorado. The second spill occurred on March 31, 2000, and resulted in the discharge of approximately 5,000 gallons of asphalt into Clear Creek, near Golden, Colorado.

Pursuant to the consent decree, Groendyke Transport Inc., (“Groendyke”) will pay the sum of $48,475 to the Oil Spill Liability Trust Fund and spend $90,025 in the performance of a Supplemental Environmental Project (SEP). The SEP involves Groendyke's purchase of equipment and the funding of training for the South Adams County Fire District so that it will be able to respond more effectively to future spills of petroleum and other hazardous substances. The area served by the South Adams County Fire District includes portions of the South Platte River watershed, the area impacted by the gasoline spill.

The Department of Justice will receive for a period of thirty (30) days from the date of this publication comments relating to the consent decree. Comments should be addressed to the Assistant Attorney General, Environment and Natural Resources Division, PO Box 7611, U.S. Department of Justice, Washington, DC 20044-7611, and should refer to United States v. Groendyke Transport, Inc., Civil Action No. 01-M-1821 (CBS) (D. Colo.), D.J. Ref. 90-5-1-1-07293.

The consent decree may be examined at U.S. EPA Region 8, 999 18th Street, Suite 500, Denver, Colorado, 80202. During the public comment period, the consent decree, may also be examined on the following Department of Justice Web site, http://www.usdoj.gov/enrd/open.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $6.75 (25 cents per page reproduction cost) payable to the U.S. Treasury.

Bruce Gelber,
Chief, Environmental Enforcement Section, Environment and Natural Resources Division.

[FR Doc. 03-22536 Filed 9-3-03; 8:45 am]

BILLING CODE 4410-15-M